DEPARTMENT OF COMMERCE

National Oceanic and Atmospheric Administration

RIN 0648-XQ23

Fisheries in the Western Pacific; Marine Conservation Plan for Pacific Insular Areas; American Samoa

AGENCY: National Marine Fisheries Service (NMFS), National Oceanic and Atmospheric Administration (NOAA), Commerce.

ACTION: Notice of agency decision.

SUMMARY: NMFS announces the approval of a marine conservation plan (MCP) for American Samoa.

DATES: This agency decision is effective August 11, 2009, through August 10, 2012.

ADDRESSES: Copies of the MCP are available from the Western Pacific Fishery Management Council (Council), 1164 Bishop St., Suite 1400, Honolulu, HI 96813, tel 808-522-8220, fax 808-522-8226.

FOR FURTHER INFORMATION CONTACT: Jarad Makaiau, Sustainable Fisheries, NMFS Pacific Islands Region, at 808-944-2108.

SUPPLEMENTARY INFORMATION: Under Section 204(e)(1)(A)of the Magnuson-Stevens Fishery Conservation and Management Act (Magnuson-Stevens Act), the Secretary of State, with the concurrence of the Secretary of Commerce (Secretary) and in consultation with the Council, may negotiate and enter into a Pacific Insular Area fishery agreement (PIAFA) to allow foreign fishing within waters of the U.S. Exclusive Economic Zone (EEZ) adjacent to American Samoa, Guam, or the Northern Mariana Islands, and at the request and with the concurrence of, and in consultation with, the Governor of the Pacific Insular Area to which the PIAFA applies. Section 204(e)(4) of the Magnuson-Stevens Act requires that prior to entering into a PIAFA, the appropriate Governor and the Council shall develop a three-year MCP detailing the uses for any funds collected by the Secretary under the PIAFA.

Any payments received under a PIAFA shall be deposited into the United States Treasury and then covered over to the Treasury of the Pacific Insular Area for which funds were collected. In the case of violations by foreign fishing vessels occurring within the EEZ off any Pacific Insular Area, any amount received by the Secretary which is attributable to fines and penalties imposed under the Magnuson-Stevens Act, including such sums collected from the forfeiture and disposition or sale of property seized subject to its authority, after payment of direct costs of the enforcement action to all entities involved in such action, shall be deposited into the Treasury of the Pacific Insular Area adjacent to the EEZ in which the violation occurred, to be used for fisheries enforcement and for implementation of an MCP. The MCP to be approved by the Secretary must be consistent with the Council's fishery management plans, identify conservation and management objectives (including criteria for determining when such objectives have been met), and prioritize planned marine conservation projects.

At its 144th meeting in March 2009, the Council reviewed and approved the MCP for American Samoa and recommended its submission to the Secretary for approval. NMFS, designee of the Secretary, received the MCP on June 22, 2009.

The American Samoa MCP contains seven broad conservation and management objectives that are consistent with the Council's fishery management plans. The MCP also identifies 37 individual projects that would be funded under a PIAFA. The objectives and projects are listed below, in priority order:

• Objective 1: Promote responsible domestic fisheries development to provide long term economic growth and stability and local food production.

1. Construct dock for commercial fishing vessels;

2. Construct cold storage and fish processing facilities;

3. Purchase ice making equipment to support local and export markets;

4. Develop fish marketing plan;

5. Longline permit, reporting and quota utilization program;

6. Fish handling and HACCP training;

7. Develop American Samoa Fishermen's Cooperative;

8. Deploy fish aggregation devices for non-LL vessels;

9. Upgrade technology for AS bottomfish fleet; and

10. Promote American Samoa as a sport fishing destination through tournaments.

• Objective 2: Support quality research and obtain the most complete scientific information available to assess and manage fisheries.

1. Acquire catch and effort information, and establish online permit and reporting;

2. Conduct reef shark movement study;

3. Improve fisheries data collection through Matai system;

4. Improve fisheries data collection on Ofu, Olosega, and Tau;

5. Study fish spawning in Pala Lagoon;

6. Establish monitoring baseline and economic valuation of mangroves at Nuuuli and Leone Pala;

7. Assess risk of cannery closure on local fishery and ecosystem;

8. Assess risk and determine sustainability of increased commercial fishing due to availability of cold storage; and

9. Set additional regulations after cannery closure.

• Objective 3: Promote ecosystem approach in fisheries management, reduce waste in fisheries, and minimize interactions between fisheries and protected species.

1. Assess bycatch and interactions in local fisheries;

2. Assess distribution and population abundance of marine mammals;

3. Study spatio-temporal patterns in abundance, distribution, and movement of green and hawksbill turtles;

4. Determine reef carrying capacity through modeling;

5. Determine extent and quality of deep reef habitat; and

6. Study feasibility of requiring bycatch mitigation methods.

• Objective 4: Foster broad and direct public participation in the Council's decision-making process.

(No projects for this objective.)

• Objective 5: Recognize the importance of island culture and traditional fishing in managing fishery resources, and foster opportunities for participation.

1. Promote traditional fishing practices;

2. Revise American Samoa fishing regulations; and

3. Enhance enforcement capabilities of village by deputizing community members.

• Objective 6: Promote regional cooperation to manage inter-jurisdictional fisheries.

1. Establish high school marine fisheries resource management course;

2. Develop local marine science integrated curriculum;

3. Develop educational tools on reef shark conservation;

4. Create video documentary of coral reefs and fisheries;

5. Enhance research training capabilities of local staff;

6. Hold regional collaborative meetings with South Pacific Territories; and

7. Promote junior biologist scientific exchange.

• Objective 7: Encourage development of technologies and methods to achieve the most effective level of enforcement and to ensures safety at sea.

1. Install radar to monitor vessel movement; and

2.Improve enforcement of MPAs.

This notice announces that NMFS has determined that the MCP for American Samoa satisfies the requirements of the Magnuson-Stevens Act and has approved the MCP for the three-year period August 11, 2009, through August 10, 2012.

Dated: August 12, 2009.
Kristen C. Koch,
Acting Director, Office of Sustainable Fisheries, National Marine Fisheries Service.

[FR Doc. 09-19773 Filed 8-17-09; 8:45 am]

BILLING CODE 3510-22-S